NUCLEAR REGULATORY COMMISSION

Termination of Uranium Milling Licenses in Agreement States; Opportunity To Comment on Draft Revision of NRC Procedure

AGENCY: Nuclear Regulatory Commission.

ACTION: Request for comment.

SUMMARY: The Nuclear Regulatory Commission (NRC) is announcing the availability of a draft revision of the Office of State and Tribal Programs (STP) Procedure SA-900: Termination of Uranium Milling Licenses in Agreement States for review and comment. The procedure describes the NRC review process for making determinations that all applicable standards and requirements have been met before Agreement State uranium milling license termination. Stakeholder's comments are requested on the draft revised procedure before NRC issues the final procedure.

DATES: The comment period expires November 4, 2002. Comments received after this date will be considered if it is practical to do so, but the Commission is able to ensure consideration only for comments received on or before this date.

ADDRESSES: Comments may be submitted either electronically or via U.S. mail. Submit written comments to: Chief, Rules and Directives Branch, Mail Stop T6-D59, U.S. Nuclear Regulatory Commission, Washington, DC 20555-0001. Comments may be submitted by electronic mail to MTL@NRC.GOV.

The draft revised procedure is available at the STP Web site at “Procedure,” http://www.hsrd.ornl.gov/nrc/procfrm.htm on the tool bar. A single paper copy of the procedure may be obtained from the For Further Information Contact.

FOR FURTHER INFORMATION CONTACT: Kevin Hsueh, Mail Stop: O-3C10, Office of State and Tribal Programs, U.S. Nuclear Regulatory Commission, Washington, DC 20555-0001, telephone 301-415-2598.

SUPPLEMENTARY INFORMATION: On March 29, 2001, the NRC published a notice in the Federal Register (66 FR 17206) announcing the formation of a Working Group composed of representatives from the NRC and Agreement States. The Working Group was tasked to identify areas that need improvements in the NRC review process and propose a draft revised procedure that addresses issues identified by the Working Group and stakeholders.

The Working Group, consisting of five representatives from the States, three NRC representatives and an NRC resource representative, began work in April 2001. Over the past year, the Working Group held four teleconference calls and one public meeting with stakeholders. A draft revised STP Procedure SA-900 entitled, “Termination of Uranium Milling Licenses in Agreement States” was prepared and published for public comment on August 23 2001 in the Federal Register (66 FR 44389).

Based on the Working Group evaluation and discussions, comments provided during the teleconference calls and the meeting with stakeholders, and comments received on the draft revised Procedure SA-900, the Working Group prepared and issued a final report in July 2002. The final report includes a draft revised STP Procedure SA-900 that addresses issues identified by the Working Group and stakeholders and an analysis of public comments. A copy of the Working Group final report dated July 2002 is available for your information at the STP Web site at “U Mill License Termination,” http://www.hsrd.ornl.gov/nrc/Umill.htm on the tool bar.

Dated at Rockville, Maryland this 24th day of September, 2002.
For the Nuclear Regulatory Commission.
Josephine M. Piccone,
Acting Director, Office of State and Tribal Programs.

[FR Doc. 02-25244 Filed 10-3-02; 8:45 am]

BILLING CODE 7590-01-P